DEPARTMENT OF ENERGY

Federal Energy Regulatory Commission

Combined Notice of Filings #1

Take notice that the Commission received the following exempt wholesale generator filings:

Docket Numbers: EG23-78-000.

Applicants: Goleta Energy Storage, LLC.

Description: Goleta Energy Storage, LLC submits Notice of Self-Certification of Exempt Wholesale Generator Status.

Filed Date: 1/30/23.

Accession Number: 20230130-5193.

Comment Date: 5 p.m. ET 2/21/23.

Docket Numbers: EG23-79-000.

Applicants: Danish Fields Solar LLC.

Description: Danish Fields submits Notice of Self-Certification of Exempt Wholesale Generator Status.

Filed Date: 2/1/23.

Accession Number: 20230201-5083.

Comment Date: 5 p.m. ET 2/22/23.

Take notice that the Commission received the following Complaints and Compliance filings in EL Dockets:

Docket Numbers: EL23-28-000.

Applicants: Solar Energy Industries Association v. Midcontinent Independent System Operator, Inc.

Description: Complaint of Solar Energy Industries Association v. Midcontinent Independent System Operator, Inc.

Filed Date: 1/31/23.

Accession Number: 20230131-5452.

Comment Date: 5 p.m. ET 2/21/23.

Take notice that the Commission received the following electric rate filings:

Docket Numbers: ER10-1776-006; ER10-2822-024; ER10-2824-006; ER10-2825-007; ER10-2957-007; ER10-2995-007; ER10-2996-006; ER10-2998-005; ER10-2999-006; ER10-3000-006; ER10-3009-008; ER10-3013-007; ER10-3029-006; ER11-2196-012; ER16-1250-017; ER17-1769-005; ER19-2360-005; ER21-2272-004; ER21-2847-004; ER22-2173-003; ER22-2174-003.

Applicants: Leaning Juniper Wind Power II LLC, Atlantic Renewable Projects II LLC, Big Horn Wind Project LLC, Big Horn II Wind Project LLC, Hay Canyon Wind LLC, Juniper Canyon Wind Power LLC, Klamath Energy LLC, Klamath Generation LLC, Klondike Wind Power LLC, Klondike Wind Power II LLC, San Luis Solar LLC, Avangrid Renewables, LLC, Solar Star Oregon II, LLC, Montague Wind Power Facility, LLC, Golden Hills Wind Farm, LLC, Montague Solar, LLC, Bakeoven Solar, LLC, Daybreak Solar, LLC.

Description: Notice of Change in Status of Leaning Juniper Wind Power II LLC, et al.

Filed Date: 1/30/23.

Accession Number: 20230130-5298.

Comment Date: 5 p.m. ET 2/21/23.

Docket Numbers: ER12-164-022; ER10-1882-008; ER10-1894-009; ER10-2563-006; ER18-2203-002; ER19-1402-001; ER20-2288-002.

Applicants: Bishop Hill Energy III LLC, Wisconsin River Power Company, Wisconsin Public Service Corporation, Wisconsin Electric Power Company, Upper Michigan Energy Resources Corporation, Coyote Ridge Wind, LLC, Tatanka Ridge Wind, LLC.

Description: Notice of Non-Material Change in Status of Bishop Hill Energy III LLC, et al.

Filed Date: 1/30/23.

Accession Number: 20230130-5296.

Comment Date: 5 p.m. ET 2/21/23.

Docket Numbers: ER13-760-001.

Applicants: Canastota Windpower, LLC.

Description: Compliance filing: Canastota Windpower, LLC Notice of Change in Status to be effective 2/1/2023.

Filed Date: 1/31/23.

Accession Number: 20230131-5243.

Comment Date: 5 p.m. ET 2/21/23.

Docket Numbers: ER17-1394-006.

Applicants: 83WI 8me, LLC.

Description: Supplement to October 7, 2022 Triennial Market Power Analysis for Southwest Region and Notice of Non-Material Change in Status of 83WI 8me, LLC.

Filed Date: 1/30/23.

Accession Number: 20230130-5285.

Comment Date: 5 p.m. ET 2/21/23.

Docket Numbers: ER17-1742-006; ER13-2490-010; ER17-311-006; ER19-2595-005; ER19-2670-005; ER19-2671-005; ER19-2672-005; ER20-1073-004; ER20-2510-004; ER20-2512-004; ER20-2515-004; ER20-2663-004; ER21-2406-003; ER21-2407-003; ER21-2408-003; ER21-2409-003; ER21-2638-003; ER22-734-002; ER22-2028-001.

Applicants: Hattiesburg Farm, LLC, Simon Solar, LLC, SR South Loving LLC, SR Hazlehurst III, LLC, SR Meridian III, LLC, SR Arlington II, LLC, SR Arlington II MT, LLC, SR Terrell, LLC, Odom Solar LLC, SR Baxley, LLC, SR Georgia Portfolio I MT, LLC, SR Snipesville, LLC, Lancaster Solar LLC, SR Georgia Portfolio II Lessee, LLC, SR Lumpkin, LLC, SR Snipesville II, LLC, SR Perry, LLC, SR Arlington, LLC, SR Hazlehurst, LLC.

Description: Notice of Non-Material Change in Status of Hattiesburg Farm, LLC, et al.

Filed Date: 1/30/23.

Accession Number: 20230130-5297.

Comment Date: 5 p.m. ET 2/21/23.

Docket Numbers: ER19-430-001.

Applicants: Enel Green Power Hilltopper Wind, LLC.

Description: Compliance filing: Enel Green Power Hilltopper Wind, LLC Notice of Change in Status to be effective 2/1/2023.

Filed Date: 1/31/23.

Accession Number: 20230131-5244.

Comment Date: 5 p.m. ET 2/21/23.

Docket Numbers: ER19-2644-001.

Applicants: Whitney Hill Wind Power, LLC.

Description: Compliance filing: Whitney Hill Wind Power, LLC Notice of Change in Status to be effective 2/1/2023.

Filed Date: 1/31/23.

Accession Number: 20230131-5245.

Comment Date: 5 p.m. ET 2/21/23.

Docket Numbers: ER20-2192-001.

Applicants: Brooklyn Navy Yard Cogeneration Partners, L.P.

Description: Compliance filing: Change in Status 2023 to be effective N/A.

Filed Date: 1/31/23.

Accession Number: 20230131-5309.

Comment Date: 5 p.m. ET 2/21/23.

Docket Numbers: ER22-1165-002.

Applicants: PJM Interconnection, L.L.C.

Description: Compliance filing: Order No. 676-J Compliance Amendment, and Request for Shortened Comment Period to be effective 12/31/9998.

Filed Date: 2/1/23.

Accession Number: 20230201-5176.

Comment Date: 5 p.m. ET 2/15/23.

Docket Numbers: ER22-2726-003.

Applicants: AEP Texas Inc.

Description: Tariff Amendment: AEPTX-Electric Transmission Texas Interconnection Agreement—Amend Pending to be effective 7/29/2022.

Filed Date: 1/31/23.

Accession Number: 20230131-5238.

Comment Date: 5 p.m. ET 2/21/23.

Docket Numbers: ER12-75-013; ER19-2811-009; ER19-2810-009; ER10-2421-010; ER11-2457-010; ER10-2590-011; ER10-2593-011; ER10-2616-024; ER19-2809-009; ER19-2806-009; ER19-2803-009; ER19-2807-009; ER11-4400-021; ER12-1769-012; ER12-2250-011; ER12-2251-011; ER12-2252-012; ER12-2253-011; ER14-1569-017; ER14-2245-011; ER15-1596-017; ER15-1599-017; ER19-102-010; ER19-158-012; ER20-2414-005; ER20-2415-005.

Applicants: Public Power, LLC, Viridian Energy, LLC, Viridian Energy PA, LLC, Energy Services Providers, Inc., Massachusetts Gas & Electric, Inc., Moss Landing Power Company LLC, Oakland Power Company LLC, Dynegy Marketing and Trade, LLC, Viridian Energy NY LLC, Connecticut Gas & Electric, Inc., Viridian Energy Ohio LLC, Energy Rewards, LLC, Dynegy Power Marketing, LLC, Everyday Energy, LLC, Public Power & Utility of NY, Inc, Public Power (PA), LLC, Public Power & Utility of Maryland, LLC, Dynegy Energy Services, LLC, Luminant Energy Company LLC, Ambit Northeast, LLC, Moss Landing Energy Storage 1, LLC, Moss Landing Energy Storage 2, LLC.

Description: Notice of Non-Material Change in Status of Moss Landing Energy Storage 3, LLC, et al.

Filed Date: 1/26/23.

Accession Number: 20230126-5244.

Comment Date: 5 p.m. ET 2/16/23.

Docket Numbers: ER22-2898-002.

Applicants: Huck Finn Solar, LLC.

Description: Notice of Change in Status of Huck Finn Solar, LLC.

Filed Date: 1/30/23.

Accession Number: 20230130-5300.

Comment Date: 5 p.m. ET 2/21/23.

Docket Numbers: ER23-1007-000.

Applicants: The Narragansett Electric Company.

Description: § 205(d) Rate Filing: Filing of Original Interconnection Service Agreement NECO-15-01 Under ISO-NE OAT to be effective 1/1/2023.

Filed Date: 1/31/23.

Accession Number: 20230131-5223.

Comment Date: 5 p.m. ET 2/21/23.

Docket Numbers: ER23-1008-000.

Applicants: Aron Energy Prepay 5 LLC.

Description: § 205(d) Rate Filing: Revised Market-Based Rate Tariff to be effective 2/1/2023.

Filed Date: 1/31/23.

Accession Number: 20230131-5228.

Comment Date: 5 p.m. ET 2/21/23.

Docket Numbers: ER23-1009-000.

Applicants: Aron Energy Prepay 14 LLC.

Description: § 205(d) Rate Filing: Revised Market-Based Rate Tariff to be effective 2/1/2023.

Filed Date: 1/31/23.

Accession Number: 20230131-5233.

Comment Date: 5 p.m. ET 2/21/23.

Docket Numbers: ER23-1010-000.

Applicants: PJM Interconnection, L.L.C.

Description: § 205(d) Rate Filing: Amendment to ISA No. 3756, Queue#None (consent) to be effective 12/31/2013.

Filed Date: 1/31/23.

Accession Number: 20230131-5234.

Comment Date: 5 p.m. ET 2/21/23.

Docket Numbers: ER23-1011-000.

Applicants: Aron Energy Prepay 15 LLC.

Description: § 205(d) Rate Filing: Revised Market-Based Rate Tariff to be effective 2/1/2023.

Filed Date: 1/31/23.

Accession Number: 20230131-5236.

Comment Date: 5 p.m. ET 2/21/23.

Docket Numbers: ER23-1012-000.

Applicants: Aron Energy Prepay 16 LLC.

Description: § 205(d) Rate Filing: Revised Market-Based Rate Tariff to be effective 2/1/2023.

Filed Date: 1/31/23.

Accession Number: 20230131-5240.

Comment Date: 5 p.m. ET 2/21/23.

Docket Numbers: ER23-1013-000.

Applicants: Tri-State Generation and Transmission Association, Inc.

Description: § 205(d) Rate Filing: Initial Filing of Rate Schedule FERC No. 353 to be effective 1/18/2023.

Filed Date: 1/31/23.

Accession Number: 20230131-5273.

Comment Date: 5 p.m. ET 2/21/23.

Docket Numbers: ER23-1014-000.

Applicants: Tri-State Generation and Transmission Association, Inc.

Description: § 205(d) Rate Filing: Amendment to Rate Schedule FERC No. 41 to be effective 4/3/2023.

Filed Date: 1/31/23.

Accession Number: 20230131-5275.

Comment Date: 5 p.m. ET 2/21/23.

Docket Numbers: ER23-1015-000.

Applicants: Antrim Wind Energy LLC.

Description: § 205(d) Rate Filing: Notice of Change in Status to be effective 4/2/2023.

Filed Date: 1/31/23.

Accession Number: 20230131-5279.

Comment Date: 5 p.m. ET 2/21/23.

Docket Numbers: ER23-1016-000.

Applicants: Big Level Wind LLC.

Description: § 205(d) Rate Filing: Notice of Change in Status to be effective 4/2/2023.

Filed Date: 1/31/23.

Accession Number: 20230131-5282.

Comment Date: 5 p.m. ET 2/21/23.

Docket Numbers: ER23-1017-000.

Applicants: TransAlta Energy Marketing Corp.

Description: § 205(d) Rate Filing: Notice of Change in Status to be effective 4/2/2023.

Filed Date: 1/31/23.

Accession Number: 20230131-5283.

Comment Date: 5 p.m. ET 2/21/23.

Docket Numbers: ER23-1018-000.

Applicants: TransAlta Energy Marketing (U.S.) Inc.

Description: § 205(d) Rate Filing: Notice of Change in Status to be effective 4/2/2023.

Filed Date: 1/31/23.

Accession Number: 20230131-5287.

Comment Date: 5 p.m. ET 2/21/23.

Docket Numbers: ER23-1019-000.

Applicants: ISO New England Inc., New England Power Company.

Description: Tariff Amendment: ISO New England Inc. submits tariff filing per 35.15: ISO-NE/NEP; Notice of Cancellation of Third Revised TSA-NEP-83 to be effective 1/1/2023.

Filed Date: 1/31/23.

Accession Number: 20230131-5308.

Comment Date: 5 p.m. ET 2/21/23.

Docket Numbers: ER23-1020-000.

Applicants: New England Power Pool Participants Committee.

Description: § 205(d) Rate Filing: Feb 2023 Membership Filing to be effective 1/1/2023.

Filed Date: 1/31/23.

Accession Number: 20230131-5311.

Comment Date: 5 p.m. ET 2/21/23.

Docket Numbers: ER23-1021-000.

Applicants: ENGIE Retail, LLC.

Description: Compliance filing: Think Energy Change in Status and Revised MBR Tariff to be effective 2/1/2023.

Filed Date: 1/31/23.

Accession Number: 20230131-5313.

Comment Date: 5 p.m. ET 2/21/23.

Docket Numbers: ER23-1023-000.

Applicants: The Narragansett Electric Company.

Description: § 205(d) Rate Filing: Orig Large Generator Interconnection Agreement No. IA-NECO-26 Under ISO-NE OATT to be effective 1/1/2023.

Filed Date: 2/1/23.

Accession Number: 20230201-5000.

Comment Date: 5 p.m. ET 2/22/23.

Docket Numbers: ER23-1024-000.

Applicants: Midcontinent Independent System Operator, Inc., American Transmission Company LLC.

Description: § 205(d) Rate Filing: Midcontinent Independent System Operator, Inc. submits tariff filing per 35.13(a)(2)(iii): 2023-02-01_SA 2802 ATC-City of Two Rivers 2nd Rev CFA to be effective 4/3/2023.

Filed Date: 2/1/23.

Accession Number: 20230201-5026.

Comment Date: 5 p.m. ET 2/22/23.

Docket Numbers: ER23-1025-000.

Applicants: Midcontinent Independent System Operator, Inc., American Transmission Company LLC.

Description: § 205(d) Rate Filing: Midcontinent Independent System Operator, Inc. submits tariff filing per 35.13(a)(2)(iii): 2023-02-01_SA 2770 ATC-Sun Prairie 2nd Rev CFA to be effective 4/3/2023.

Filed Date: 2/1/23.

Accession Number: 20230201-5031.

Comment Date: 5 p.m. ET 2/22/23.

Docket Numbers: ER23-1026-000.

Applicants: World Fuel Services, Inc.

Description: Tariff Amendment: World Fuel Services Cancels MBR Tariff Filing to be effective 2/2/2023.

Filed Date: 2/1/23.

Accession Number: 20230201-5096.

Comment Date: 5 p.m. ET 2/22/23.

Docket Numbers: ER23-1027-000.

Applicants: Northwestern Corporation (Montana).

Description: Formula Rate 2022 Post-employment Benefits Other than Pensions filing of NorthWestern Corporation (Montana).

Filed Date: 1/31/23.

Accession Number: 20230131-5464.

Comment Date: 5 p.m. ET 2/21/23.

Docket Numbers: ER23-1028-000.

Applicants: PacifiCorp.

Description: § 205(d) Rate Filing: Cost-Based Load Service Contract with the City of Hurricane, Utah to be effective 2/1/2023.

Filed Date: 2/1/23.

Accession Number: 20230201-5152.

Comment Date: 5 p.m. ET 2/22/23.

Docket Numbers: ER23-1029-000.

Applicants: Alabama Power Company, Georgia Power Company, Mississippi Power Company.

Description: § 205(d) Rate Filing: Alabama Power Company submits tariff filing per 35.13(a)(2)(iii): Coosa Pines Solar LGIA Filing to be effective 1/23/2023.

Filed Date: 2/1/23.

Accession Number: 20230201-5155.

Comment Date: 5 p.m. ET 2/22/23.

Docket Numbers: ER23-1030-000.

Applicants: Basin Electric Power Cooperative.

Description: § 205(d) Rate Filing: Basin Electric Amendment to Service Agreement No. 101 with Tri-State to be effective 11/29/2022.

Filed Date: 2/1/23.

Accession Number: 20230201-5161.

Comment Date: 5 p.m. ET 2/22/23.

Docket Numbers: ER23-1031-000.

Applicants: Tri-State Generation and Transmission Association, Inc.

Description: § 205(d) Rate Filing: Initial Filing of Service Agreement FERC No. 111 to be effective 1/9/2023.

Filed Date: 2/1/23.

Accession Number: 20230201-5165.

Comment Date: 5 p.m. ET 2/22/23.

Docket Numbers: ER23-1032-000.

Applicants: Tri-State Generation and Transmission Association, Inc.

Description: Tariff Amendment: Notice of Cancellation of Service Agreements FERC No. 104 and 204 to be effective 1/31/2023.

Filed Date: 2/1/23.

Accession Number: 20230201-5185.

Comment Date: 5 p.m. ET 2/22/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 1, 2023.
Debbie-Anne A. Reese,
Deputy Secretary.

[FR Doc. 2023-02609 Filed 2-7-23; 8:45 am]

BILLING CODE 6717-01-P